DEPARTMENT OF THE INTERIOR

National Park Service

National Register of Historic Places; Notification of Pending Nominations

Nominations for the following properties being considered for listing in the National Register were received by the National Park Service before June 1, 2002. Pursuant to section 60.13 of 36 CFR part 60 written comments concerning the significance of these properties under the National Register criteria for evaluation may be forwarded by United States Postal Service, to the National Register Historic Places, National Park Service, 1849 C St. NW., NC400, Washington, DC 20240; by all other carriers, National Register of Historic Places, National Park Service, 800 N. Capitol St., NW., Suite 400, Washington DC 20002; or by fax, 202-343-1836. Written or faxed comments should be submitted by July 9, 2002.

Carol D. Shull,
Keeper of the National Register of Historic Places.

ARIZONA

Pinal County

Building at 121 North Florence Street, (Casa Grande, Arizona MPS), 121 N. Florence St., Casa Grande, 02000737

Building at 400 East Third Street, (Casa Grande, Arizona MPS), 400 E. Third St., Casa Grande, 02000749

Casa Grande Dispatch, (Casa Grande, Arizona MPS), 109 E. Second St., Casa Grande, 02000747

Casa Grande Hospital, (Casa Grande, Arizona MPS), 601 N. Cameron Ave., Casa Grande, 02000740

Church of the Nazarene, (Casa Grande, Arizona MPS), 305 E. Fourth St., Casa Grande, 02000750

First Baptist Church, (Casa Grande, Arizona MPS), 218 E. Eighth St., Casa Grande, 02000751

House at 222 West Ninth St., (Casa Grande, Arizona MPS), 222 W. Ninth St., Casa Grande, 02000743

House at 317 East Eighth Street, (Casa Grande, Arizona MPS), 317 E. Eighth St., Casa Grande, 02000753

House at 320 West Eighth Street, (Casa Grande, Arizona MPS), 320 W. Eighth St., Casa Grande, 02000745

House at 323 West Eighth St., (Casa Grande, Arizona MPS), 323 W. Eighth St., Casa Grande, 02000744

House at 59 North Brown Avenue, (Casa Grande, Arizona MPS), 59 N. Brown Ave., Casa Grande, 02000742

House at 736 North Central Avenue, (Casa Grande, Arizona MPS), 736 N. Central Ave., Casa Grande, 02000738

House at North Lehmberg Avenue, (Casa Grande, Arizona MPS), 1105 N. Lehmberg Ave., Casa Grande, 02000735

Kilcrease, V.W., Building, (Casa Grande, Arizona MPS), 139 W. First St., Casa Grande, 02000754

Kochsmeier, Henry and Anna, House, (Casa Grande, Arizona MPS), 401 W. Second Ave., Casa Grande, 02000746

Lincoln Hospital, (Casa Grande, Arizona MPS), 112 N. Brown Ave., Casa Grande, 02000741

Mandell and Meyer Building, (Casa Grande, Arizona MPS), 211 N. Florence St., Casa Grande, 02000736

S.S. Blinky Jr. Building, (Casa Grande, Arizona MPS), 511 W. Second St., Casa Grande, 02000748

Southern Pacific Railroad Depot, (Casa Grande, Arizona MPS), 201 W. Main St., Casa Grande, 02000734

Templeton, Benjamin, House, (Casa Grande, Arizona MPS), 923 N. Center Ave., Casa Grande, 02000739

Valley National Bank, (Casa Grande, Arizona MPS), 221 N. Florence St., Casa Grande, 02000733

Wilbur, Walter, House, (Casa Grande, Arizona MPS), 904 E. Eighth St., Casa Grande, 02000752

ARKANSAS

Logan County

Farmer's State Bank, (New Blaine, Arkansas MPS), 100 Seallars St., New Blaine, 02000757

Lasater, Freeborn T., House, (New Blaine, Arkansas MPS), 494 AR 197, New Blaine, 02000756

Main Street Bridge, (New Blaine, Arkansas MPS), Sellers St. at Silver Smith Branch, New Blaine, 02000755

GEORGIA

Berrien County

Alapaha Colored School, Henry St., S of jct. with George St., Alapaha, 02000758

Clarke County

Newton House, 892 Prince Ave., Athens, 02000759

IOWA

Dubuque County

Mount, Sherrill, House, 5259 S. Mound Rd., Sherrill, 02000760

KANSAS

Elk County

Grenola Mill and Elevator, Railroad Avenue, Grenola, 02000764

Labette County

East Side School, Iowa St., Oswego, 02000762

Sedgwick County

Kelly, Edward M., House, 1711 N. Market St., Wichita, 02000763 Riverview Apartments, 404-408 Back Bay Blvd., Wichita, 02000765

Wyandotte County

Bonner Springs High School, 200 East Third, Bonner Springs, 02000761

MONTANA

Flathead County

Great Northern Railway Passenger and Freight Depot and Division Office, 500 Depot St., Whitefish, 02000766

Lewis and Clark County

Temple Emanu-El, 515 N. Ewing St., Helena, 02000724

Sweet Grass County

Carnegie Public Library, 314 McLeod St., Big Timber, 02000725

NEBRASKA

Dodge County

Fremont Municipal Auditorium, 925 Broad St., Fremont, 02000773 Fremont Municipal Power Plant and Pumping Station, Eighth St. and Park Ave., Fremont, 02000772

Hitchcock County

Weyl Service Station, 124 E. D St., Trenton, 02000768

Kimball County

Wheat Growers Hotel, 102 S. Oak St., Kimball, 02000769

Lancaster County

Nebraska City to Fort Kearny Cutoff Ruts at Spring Creek Prairie, 11700 SW 100th St., Denton, 02000771

Madison County

Karl Stefan Memorial Airport Administration Building, 4100 S. 13th St., Norfolk, 02000767

Sherman County

Frederick Hotel, 810 O St., Loup City, 02000770

NEW MEXICO

Grant County

Fort Bayard Historic District, 0.5 mi. N of jct. of US 180 and NM 152, Santa Clara, 02000726

PENNSYLVANIA

Allegheny County

Heinz, H.J., Company, Roughly bounded by Chestnut St., River Ave., S. Canal St., Progress St. and Heinz Modern Manufacturing Facilities, Pittsburgh, 02000774

SOUTH DAKOTA

Clark County

Good Hope Lutheran Church, US 1, Vienna, 02000727

TEXAS

Burleson County

Kraitchar, Thomas, Jr. and Mary, House, 200 E. Buck St., Caldwell, 02000731

Dallas County

Lincoln Paint and Color Company Building, 3210 Main, Dallas, 02000730

Harris County

McKee Street Bridge, (Historic Bridges of Texas MPS) McKee St. and Buffalo Bayou, Houston, 02000729

Jeff Davis County

Jeff Davis County Courthouse, Bounded by Court St., Front St., Woodward Ave., and State St., Fort Davis, 02000728

VERMONT

Addison County

Glen Dale, (Agricultural Resources of Vermont MPS) 1455 Cider Mill Rd., Cornwall, 02000776

Bennington County

Pratt—McDaniels—LaFlamme House, 501-507 South St., Bennington, 02000777

VIRGINIA

Goochland County

Tanglewood—037-5010, 2200-2210 River Rd W, Maidens, 02000775

WISCONSIN

Washington County

Amity Leather Products Company Factory, 723-735 S. Main St., West Bend, 02000778

Wood County

Skunk Hill (Tah-qua-kik) Ceremonial Community, Address Restricted, Arpin, 02000732

A request for REMOVAL has been made for the following resource:

ARIZONA

Maricopa County

Archeological Site No. AZ U:10:68(ASM) (Hohokam and Euroamerican Land Use and Settlement Along the Northern Queen Creek Delta MPS), Address Restricted, Mesa vicinity, 95000756

[FR Doc. 02-15888 Filed 6-21-02; 8:45 am]

BILLING CODE 4310-70-P